DEPARTMENT OF DEFENSE

Department of the Army; Corps of Engineers

Intent To Prepare a Draft Programmatic Environmental Impact Statement (DPEIS) for the Onondaga Lake Watershed Management Plan (OLWMP), Feasibility Study, City of Syracuse, Onondaga County, Central New York State, and Onondaga Nation

AGENCY: Department of the Army; Corps of Engineers, DoD.

ACTION: Notice of intent.

SUMMARY: The Onondaga Lake Watershed Management Plan (OLWMP) project has been initiated through the Onondaga Lake Partnership (OLP) to help coordinate and implement various improvement projects in the watershed to benefit the public. The project entails developing a multi-purpose/multi-objective evaluation of the Onondaga Lake watershed to (1) integrate existing projects/plans/studies; (2) assess program/project progress; and (3) plan future lake and watershed revitalization programs and projects into a comprehensive Onondaga Lake Watershed Management Plan. The final product will be used as a tool for the OLP to move toward the rehabilitation of the Onondaga Lake watershed.

Projects shall be consistent with the 1993 Onondaga Lake Management Plan and comply with the Amended Consent Judgment (ACJ) and the Project Labor Agreement (PLA) for the environmental restoration, conservation, and management of Onondaga Lake.

Within the framework of the OLWMP project, an integrated rehabilitation approach will be applied to recognize Comprehensive Environmental Response, Compensation and Liability Act (CERCLA) and National Resource Damage Assessment (NRDA) activities within the lake and watershed. While CERCLA and NRDA are pursued under those authorities (Superfund) and are not subject to NEPA, per se, processes are similar. The Onondaga Lake Watershed Management Plan reports will discuss and provide an overview of all pertinent on-going watershed programs and projects in appropriate relative detail.

Study efforts will include: Identification of various study/project authorities; identification of existing and anticipated lake and watershed conditions (including completed and ongoing projects); identification of lake and watershed water resources problems, needs, goals, and objectives; identification of considered alternatives; assessment of impacts of considered alternatives; evaluation (trade-off analyses) of alternatives and associated impacts (including required planning and environmental coordination and compliance, and consideration of agency and public views); and selection and pursuit of appropriate lake and watershed water resources alternatives/projects. Studies shall also provide tools, as appropriate, for continued study/project development, management, and monitoring purposes.

ADDRESSES: Correspondence should be addressed to: Mr. Tod Smith, U.S. Army Corps of Engineers, Buffalo District, Environmental Analyses Section, 1776 Niagara Street, Buffalo, New York 14207-3199.

FOR FURTHER INFORMATION CONTACT: Mr. Tod Smith at 716-879-4175.

SUPPLEMENTARY INFORMATION: Authority: This study is being conducted under the authority of Section 573 of the Water Resources Development Act (WRDA) 1999.

Proposed Action: The study will involve a comprehensive evaluation of Onondaga Lake and watershed water resource problems, including studies and research necessary for the identification, integration, and implementation of projects and programs that will facilitate water resource improvements in the watershed.

Alternatives: The No Action (Without Project Conditions) alternative is always a consideration. Under this alternative, no study/project action would be taken. This serves as the basis of comparison for other alternatives.

Associated alternatives may include those relative to: institutional processes, water and land use management, HTRW (hazardous, toxic, radioactive waste) remediation, water quality sediment load reduction measures, water quality contamination control measures, water supply measures, water treatment measures, navigation measures, flood damage reduction measures, erosion protection measures, environmental restoration measures, recreational development, and transportation considerations.

Scoping Process: The Onondaga Lake Management Conference (OLMC) was conducted to discuss significant water resources problems and potential remedial actions for Onondaga Lake and developed the 1993 Onondaga Lake Management Plan (OLMP).

The Onondaga Lake Partnership (OLP) was formed in 1998 and was authorized to make revisions to the OLMP via Section 573 of the Water Resources Development Act (WRDA) 1999. Associated with these efforts, the Onondaga Lake Watershed Management Plan study has been initiated to further evaluate, formulate, and integrate beneficial water resources programs/projects in the watershed.

Coordination and meetings have already occurred relative to the Onondaga Lake Partnership activities and projects, as well as, for this Onondaga Lake Watershed Management Plan study. Public involvement processes include an outreach program, public meetings, written and verbal correspondence/coordination, and draft and final report review procedures. A study supplemental Scoping Fact Sheet is being coordinated with various Federal, State, and local agencies and interests, and the Onondaga Nation. Study teams will meet on a routine basis. Additional input from potentially affected Federal, Tribal, State, and local interests is sought by this notice. Information regarding the Onondaga Lake Partnership is available at http://www.onlakepartners.org/.

Significant Issues: The primary issues of this study include the substantial water resource problems in Onondaga Lake and its watershed and the effective formulation and integration of their existing and potential remedial actions. These significant water resource problems adversely affect the optimal use of and economic growth in the watershed.

Scoping Meeting: Federal, Tribal, State, and local interests have already been involved with initiation of the Onondaga Lake Partnership and this project (OLWMP) and coordination is already being conducted. At least one new formal scoping meeting is anticipated with the specific date, time, and location to be determined.

Availability: It is expected that the Draft Programmatic Environmental Impact Statement (DPEIS) (a programmatic plan development and implementation overview documentation) will be made available to agencies, tribes, interests, and the public about May 2007.

Dated: March 23, 2005.
Timothy B. Touchette,
Lieutenant Colonel, Corps of Engineers, District Engineer.

[FR Doc. 05-6485 Filed 3-31-05; 8:45 am]

BILLING CODE 3710-GP-M